DEPARTMENT OF COMMERCE

National Oceanic and Atmospheric Administration

[RTID 0648-XA283]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Southern Atlantic red porgy is now subject to overfishing and remains overfished, the Western and Central North Pacific Ocean (WCNPO) stock of striped marlin remains both subject to overfishing and overfished, and the Western and Central Pacific Ocean (WCPO) stock of oceanic whitetip shark is now both subject to overfishing and overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Southern Atlantic red porgy is subject to overfishing and remains overfished. This determination is based on the most recent assessment, completed in 2020, using data through 2017, which indicates that this stock is subject to overfishing because the fishing mortality is greater than the threshold and is overfished because the spawning stock biomass remains below the threshold. NMFS has notified the South Atlantic Fishery Management Council of the requirement to end overfishing immediately and rebuild this stock.

NMFS has determined that the WCNPO stock of striped marlin remains both subject to overfishing and overfished. This determination is based on a 2019 assessment by the Billfish Working Group of the International Scientific Committee for Tuna and Tuna-like Species in the North Pacific Ocean, using data through 2017. Based on domestic status determination criteria, this stock is subject to overfishing because the fishing mortality rate is greater than the threshold and is overfished because the spawning biomass ratio remains below the threshold. NMFS has determined that section 304(i) of the Magnuson-Stevens Act applies because the overfishing of the WCNPO stock of striped marlin is due largely to excessive international fishing pressure, and because it has not been determined that management measures adopted by the Western and Central Pacific Fisheries Commission (WCPFC) will end overfishing and rebuild the stock. NMFS has informed the Western Pacific Fishery Management Council (Western Pacific Council) of its obligations for domestic and international management under Magnuson-Stevens Act section 304(i) to address domestic and international impacts.

NMFS has determined that the WCPO stock of oceanic whitetip shark is now both subject to overfishing and overfished. This determination is based on a 2019 assessment by the Shark Working Group of the WCPFC, using data through 2016. Based on domestic status determination criteria, this stock is subject to overfishing because the fishing mortality is greater than the threshold and is overfished because the spawning biomass is below the threshold. NMFS has determined that section 304(i) of the Magnuson-Stevens Act applies because the overfishing of the WCPO stock of oceanic whitetip shark is due largely to excessive international fishing pressure, and because it has not been determined that management measures adopted by the WCPFC will end overfishing and rebuild the stock. NMFS has informed the Western Pacific Council of its obligations for domestic and international management under Magnuson-Stevens Act section 304(i) to address domestic and international impacts.

Dated: July 29, 2020.
Jennifer M. Wallace,
Acting Director, Office of Sustainable Fisheries National Marine Fisheries Service.

[FR Doc. 2020-16832 Filed 7-31-20; 8:45 am]

BILLING CODE 3510-22-P